NUCLEAR REGULATORY COMMISSION

[NRC-2018-0001]

Sunshine Act Meeting Notice

TIME AND DATE: Weeks of June 11, 18, 25, July 2, 9, 16, 2018.

PLACE: Commissioners' Conference Room, 11555 Rockville Pike, Rockville, Maryland.

STATUS: Public and Closed.

Week of June 11, 2018

There are no meetings scheduled for the week of June 11, 2018.

Week of June 18, 2018—Tentative

Tuesday, June, 19, 2018

9:00 a.m. Briefing on Results of the Agency Action Review Meeting (Public Meeting) (Contact: Joanna Bridge: 301-415-4052)

This meeting will be webcast live at the Web address— http://www.nrc.gov/.

Thursday, June 21, 2018

10:00 a.m. Meeting with the Organization of Agreement States and the Conference of Radiation Control Program Directors (Public Meeting) (Contact: Paul Michalak: 301-415-5804)

This meeting will be webcast live at the Web address— http://www.nrc.gov/.

Week of June 25, 2018—Tentative

There are no meetings scheduled for the week of June 25, 2018.

Week of July 2, 2018—Tentative

There are no meetings scheduled for the week of July 2, 2018.

Week of July 9, 2018—Tentative

There are no meetings scheduled for the week of July 9, 2018.

Week of July 16, 2018—Tentative

There are no meetings scheduled for the week of July 16, 2018.

* * * * *

The schedule for Commission meetings is subject to change on short notice. For more information or to verify the status of meetings, contact Denise McGovern at 301-415-0681 or via email at Denise.McGovern@nrc.gov.

* * * * *

The NRC Commission Meeting Schedule can be found on the internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer-Chambers, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or you may email Patricia.Jimenez@nrc.gov or Wendy.Moore@nrc.gov.

Dated: June 7, 2018.
Denise L. McGovern,
Policy Coordinator, Office of the Secretary.

[FR Doc. 2018-12654 Filed 6-8-18; 11:15 am]

BILLING CODE 7590-01-P